NATIONAL TRANSPORTATION SAFETY BOARD

Sunshine Act; Meeting

Time and Place: 9:30 a.m., Tuesday, April 2, 2002.

Place: NTSB Conference Center, 429 L'Enfant Plaza, SW., Washington, DC 20594.

Status: The two items are open to the public.

Matters to Be Considered: 7222B Marine Accident Report—Sinking of the U.S. Small Passenger Vessel Miss Majestic in Lake Hamilton, Hot Springs, Arkansas, on May 1, 1999.

7450 Railroad Accident Report—Derailment of Union Pacific Railroad Train QFPLI-26 at Eunice, Louisiana, on May 27, 2000.

News Media Contact: Telephone: (202) 314-6100.

Individuals requesting specific accommodations should contact Ms. Carolyn Dargan at (202) 314-6305 by Friday, March 29, 2002.

FOR MORE INFORMATION CONTACT: Vicky D'Onofrio, (202) 314-6410.

Dated: March 22, 2002.
Vicky O'Onofrio,
Federal Register Liaison Officer.

[FR Doc. 02-7350 Filed 3-22-02; 2:23 pm]

BILLING CODE 7533-01-M